ENVIRONMENTAL PROTECTION AGENCY

40 CFR Part 52

[VT-19-1222c; FRL-8037-2]

Approval and Promulgation of Air Quality Implementation Plans; Vermont Update to Materials Incorporated by Reference

AGENCY: Environmental Protection Agency (EPA).

ACTION: Final rule; Notice of administrative change.

SUMMARY: EPA is publishing this action to provide the public with notice of the update to the Vermont State Implementation Plan (SIP) compilation. In particular, materials submitted by Vermont that are incorporated by reference (IBR) into the Vermont SIP are being updated to reflect EPA-approved revisions to Vermont's SIP that have occurred since the last update. In this action EPA is also notifying the public of the correction of a certain typographical error within the table in the regulations, and modification of the Federal Register citations to reflect the first page of the applicable Federal Register document.

DATES: This action is effective March 22, 2006.

ADDRESSES: SIP materials which are incorporated by reference into 40 CFR part 52 are available for inspection at the following locations: Environmental Protection Agency, New England Regional Office (Region 1), One Congress Street, Suite 1100, Boston, MA 02114-2023; the Air and Radiation Docket and Information Center, U.S. Environmental Protection Agency, 1301 Constitution Avenue, NW., Room B-108, Washington, DC 20460; or the National Archives and Records Administration (NARA). For information on the availability of this material at NARA, call 202-741-6030, or go to: http://www.archives.gov/federal_register/code_of_federal_regulations/ibr_locations.html.

FOR FURTHER INFORMATION CONTACT: Mr. Donald Cooke, Environmental Scientist, at the above EPA New England Region address or at (617) 918-1668 or by e-mail at cooke.donald@epa.gov.

SUPPLEMENTARY INFORMATION: The SIP is a living document which the State can revise as necessary to address its unique air pollution problems. Therefore, EPA from time to time must take action on SIP revisions containing new and/or revised regulations as being part of the SIP. On May 22, 1997, (62 FR 27968), EPA revised the procedures for incorporation by reference (IBR) federally-approved SIPs, as a result of consultations between EPA and the Office of Federal Register (OFR). The description of the revised SIP document, IBR procedures and “Identification of plan” format are discussed in further detail in the May 22, 1997 Federal Register document. On September 8, 2000 (65 FR 54413), EPA published a Federal Register beginning the new IBR procedure for Vermont. In this document, EPA is doing the following:

1. Announcing the update to the Vermont IBR material as of February 10, 2006.

2. Making a correction in the table to § 52.2370(c), entry “Chapter 5, Subchapter V, Section 5-501.”—The correct year for Federal Register volume 62 is 1997.

3. Correcting typographical errors listed in § 52.2370(c), (d) and (e) tables.—Modifying the Federal Register citation to reflect the beginning page of the preamble as opposed to the page of the regulatory text.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs, and corrects typographical errors. Under section 553 of the APA, an agency may find good cause where procedures are “impractical, unnecessary, or contrary to the public interest.” Public comment is “unnecessary” and “contrary to the public interest” since the codification (and typographical corrections) only reflects existing law. Immediate notice in the CFR benefits the public by removing outdated citations and incorrect chart entries.

Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal government and Indian tribes, or on the distribution of power and responsibilities between the Federal government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

EPA has also determined that the provisions of section 307(b)(1) of the Clean Air Act, pertaining to petitions for judicial review are not applicable to this action. Prior EPA rulemaking actions for each individual component of the Vermont SIP compilations had previously afforded interested parties the opportunity to file a petition for judicial review in the United States Court of Appeals for the appropriate circuit within 60 days of such rulemaking action. Thus, EPA sees no need in this action to reopen the 60-day period for filing such petitions for judicial review for this “Identification of plan” reorganization update action for Vermont.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 14, 2006.
Robert W. Varney,
Regional Administrator, EPA New England.

Chapter I, title 40, Code of Federal Regulations, is amended as follows:

PART 52—[AMENDED]

1. The authority for citation for part 52 continues to read as follows:

Authority: 42 U.S.C. 7401 et seq.

Subpart UU—Vermont

2. Section 52.2370 is amended by revising paragraphs (b), (c), (d) and (e) to read as follows:

§ 52.2370 Identification of plan.

* * * * *

(b) Incorporation by reference. (1) Material listed in paragraph (c) and (d) of this section with an EPA approval date prior to February10, 2006, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after February 10, 2006, will be incorporated by reference in the next update to the SIP compilation.

(2) EPA Region 1 certifies that the rules/regulations provided by EPA in the SIP compilation at the addresses in paragraph (b)(3) of this section are an exact duplicate of the officially promulgated state rules/regulations which have been approved as part of the State Implementation Plan as of February 10, 2006.

(3) Copies of the materials incorporated by reference may be inspected at the New England Regional Office of EPA at One Congress Street, Suite 1100, Boston, MA 02114-2023; the EPA, Air and Radiation Docket and Information Center, Air Docket (Mail Code 6102T), Room B-108, 1301 Constitution Avenue, NW., Washington, DC 20460 and the National Archives and Records Administration. For information on the availability of this material at NARA, call 202-741-6030, or go to: http://www.archives.gov/federal_register/code_of_federal_regulations/ibr_locations.html.

(c) EPA approved regulations.

EPA-Approved Vermont Regulations
State citation | Title/subject | State effective date | EPA approval date | Explanations
Chapter 5—Air Pollution Control
Subchapter I. Definitions
Section 5-101 | Definitions | 07/29/93 | 04/22/98, 63 FR 19825 | Definitions IBR'd into the Vermont SIP are numbered consecutively by EPA, and do not necessarily correspond to the State's assigned definition number in the Vermont State Regulation, which are re-numbered whenever definitions are added or deleted from the State Regulation.
Subchapter II. Prohibitions
Section 5-201 | Open burning prohibited | 07/22/98 | 04/22/98, 63 FR 19825 |
Section 5-202 | Permissible open burning | 01/25/78 | 12/21/78, 43 FR 59496 |
Section 5-203 | Procedures for local authorities to burn natural wood | 01/25/78 | 12/21/78, 43 FR 59496 |
Section 5-211 | Prohibition of visible air contaminants | 08/12/78 | 04/16/82, 47 FR 16331 | Except Section 5-211(3).
Section 5-221 | Prohibition of pollution potential materials in fuel | 01/25/78 | 12/21/78, 43 FR 59496 | Except Section 5-221(1)(c)(i) and Section 5-221(1)(c)(ii).
Section 5-231 | Prohibition of particular matter | 11/13/81 | 02/26/85, 50 FR 7767 |
Section 5-241 | Prohibition of nuisance and odor | 01/25/78 | 12/21/78, 43 FR 59496 |
Section 5-251 | Control of nitrogen oxides emissions | 01/04/95 | 04/09/97, 62 FR 17084 | Requires RACT for major stationary sources of NOX.
Section 5-252 | Control of sulfur dioxide emissions | 11/04/79 | 02/19/80, 45 FR 10775 |
Section 5-253.1 | Petroleum liquid storage in fixed roof Tanks | 10/29/92 | 04/22/98, 63 FR 19825 |
Section 5-253.2 | Bulk gasoline terminals | 10/29/92 | 04/22/98, 63 FR 19825 |
Section 5-253.3 | Bulk gasoline plants | 10/29/92 | 04/22/98, 63 FR 19825 |
Section 5-253.4 | Gasoline tank trucks | 10/29/92 | 04/22/98, 63 FR 19825 |
Section 5-253.5 | Stage I vapor recovery controls at gasoline dispensing facilities | 10/29/92 | 04/22/98, 63 FR 19825 |
Section 5-253.10 | Paper coating | 10/29/92 | 04/22/98, 63 FR 19825 |
Section 5-253.12 | Coating of flad wood paneling | 10/29/92 | 04/22/98, 63 FR 19825 |
Section 5-253.13 | Coating of miscellaneous metal parts | 07/29/93 | 04/22/98, 63 FR 19825 |
Section 5-253.14 | Solvent metal cleaning | 07/29/93 | 04/22/98, 63 FR 19825 |
Section 5-253.15 | Cutback and emulsified asphalt | 08/02/94 | 04/22/98, 63 FR 19825 |
Section 5-253.20 | Other sources that emit volatile organic compounds | 08/03/93 | 04/09/97, 62 FR 17084 |
Section 5-261 | Control of hazardous air contaminants | 11/03/81 | 02/10/82, 47 FR 6014. |
Subchapter III. Ambient Air Quality Standards
Section 5-301 | Scope | 12/15/90 | 03/05/91, 56 FR 9175 |
Section 5-302 | Sulfur dioxide primary | 03/24/79 | 02/19/80, 45 FR 10775 |
Section 5-303 | Sulfur dioxide secondary | 03/24/79 | 02/19/80, 45 FR 10775 |
Section 5-306 | PM10 primary and secondary standards | 11/01/90 | 08/01/97, 62 FR 41280 | Removal of the TSP standard (Section 5-304 and 5-305) and establishment of PM10 standard (Section 5-306).
Section 5-307 | Carbon monoxide primary and secondary | 03/24/79 | 02/19/80, 45 FR 10775 | Formerly Section 5-306, renumbered to 5-307 when new Section 5-306 for PM10 was created.
Section 5-308 | Ozone primary and secondary | 03/24/79 | 02/19/80, 45 FR 10775 | Formerly Section 5-307, renumbered to 5-308 when new Section 5-306 for PM10 was created.
Section 5-309 | Lead primary and secondary | 11/13/81 | 02/10/82, 47 FR 6014 | Formerly Section 5-308, renumbered to 5-309 when new Section 5-306 for PM10 was created.
Section 5-310 | Nitrogen dioxide primary and secondary | 12/15/90 | 03/05/91, 56 FR 9175 | Formerly Section 5-309, renumbered to 5-310 when new Section 5-306 for PM10 was created.
Subchapter IV. Operations and Procedures
Section 5-401 | Classification of air contaminant sources | 03/24/79 | 02/19/80, 45 FR 10775 |
Section 5-402 | Written reports when requested | 03/24/79 | 02/19/80, 45 FR 10775 |
Section 5-403 | Circumvention | 12/10/72 | 05/31/72, 37 FR 10842 |
Section 5-404 | Methods for sampling and FR testing of sources | 03/24/78 | 02/19/80, 45 FR 10775 |
Section 5-405 | Required air monitoring | 03/24/79 | 02/19/80, 45 FR 10775 |
Section 5-406 | Required air modeling | 03/24/79 | 02/19/80, 45 FR 10775 |
Subchapter V. Review of New Air Contaminant Sources
Section 5-501 | Review of construction or modification of air contaminant sources | 09/17/86 | 07/17/87, 52 FR 26973 |
Section 5-502 | Major stationary sources and major modifications | 07/14/95 | 08/04/97, 62 FR 41867 |
Subchapter VII. Motor Vehicle Emissions
Section 5-701 | Removal of control devices | 03/24/79 | 02/19/80, 45 FR 10775 |
Section 5-702 | Excessive smoke emissions from motor vehicles | 03/24/79 | 02/19/80, 45 FR 10775 |
Section 5-801 | Effective date | 03/24/79 | 01/30/80, 45 FR 6781 |
Tables
Table 1 | Table 1—Process weight standards | 01/25/78 | 12/21/78, 43 FR 59496 |
Table 2 | Table 2—PSD increments | 12/15/90 | 03/05/91, 56 FR 9175 |
Table 3 | Table 3—Levels of significant impact for non-attainment areas | 11/03/81 | 02/10/82, 47 FR 6014 |
Subchapter VIII. Registration of Air Contaminant Sources
Sections 5-801 | Definitions | 04/20/88 | 01/10/95, 60 FR 2524 |
Sections 5-802 | Requirement for registration | 04/20/88 | 01/10/95, 60 FR 2524 |
Section 5-803 | Registration procedure | 04/20/88 | 01/10/95, 60 FR 2524 |
Section 5-804 | False or misleading information | 04/20/88 | 01/10/95, 60 FR 2524 |
Section 5-805 | Commencement or recommencement of operation | 04/20/88 | 01/10/95, 60 FR 2524 |
Section 5-806 | Transfer of Operation | 04/20/88 | 01/10/95, 60 FR 2524 |

(d) EPA-approved State Source specific requirements.

EPA-Approved Vermont Source Specific Requirements
Name of source | Permit number | State effective date | EPA approval date | Explanations
Simpson Paper Company, Centennial Mill in Gilman, Vermont | Envrionmental Protection Regulations, Chapter 5, Air Pollution Control, Subchapter II. Section 5-251(2) | 01/04/95 | 04/09/97, 45 FR 17084 | Administrative orders for Simpson Paper Company, in Gilman, Vermont, adopted and effective on January 4, 1995.
U.S. Samaica Corporation, in Rutland, VT | Envrionmental Protection Regulations, Chapter 5, Air Pollution Control, Subchapter II. Section 5-253.20 | 01/04/95 | 04/09/97, 45 FR 17084 | Administrative orders for U.S. Samaica Corporation, in Rutland, Vermont, adopted and effective on January 4, 1995.

(e) Nonregulatory.

Vermont Non-Regulatory
Name of non-regulatory SIP provision | Applicable geographic or nonattainment area | State submittal date/ effective date | EPA approval date | Explanation
Notice of public hearing | Statewide | Submitted 02/03/72 | 06/15/72, 37 FR 11914 | (c)(1) Vermont Agency of Environmental Conservation.
Miscellaneous non-regulatory revisions to the plan |  | Submitted 02/25/72 | 5/31/72, 37 FR 10842 | (c)(2) Vermont Agency of Environmental Conservation.
Miscellaneous non-regulatory revisions to the plan |  | Submitted 03/03/75 | 01/21/76, 41 FR 3085 | (c)(4) Vermont Agency of Environmental Conservation. Deletion of Winooski sampling site for particulates and sulfur dioxide.
Plans to meet various requirements of the Clean Air Act, including Part C |  | Submitted 03/21/79, and 11/21/79 | 01/30/80, 45 FR 6781 | (c)(9) See Plans to attain below.
Attainment Plans to meet the requirements of Part D and the Clean Air Act, as amended in 1977 |  | Submitted 03/21/79, 11/21/79, 11/27/79, and 12/19/79 | 02/19/80, 45 FR 10775 | (c)(10) Plans to attain. State of Vermont air quality and the implementation plan (March 1979). The secondary TSP standard for Barre City and a portion of the Champlain Valley Air Management Area, the carbon monoxide standard in the Champlain Valley Air Management Area and the ozone standard in Chittenden, Addison, and Windsor Counties. A program was also submitted for the review of construction and operation of new and modified major stationary sources of pollution in non-attainment areas. Certain miscellaneous provisions were also included.
A plan to provide for public, local and state involvement in federally funded air pollution control activities |  | Submitted 03/28/80 | 09/09/80, 45 FR 59314 | (c)(11) A plan to provide for public, local and state involvement in federally funded air pollution control activities.
A plan to attain and maintain the National Ambient Air Quality Standard for lead |  | Submitted 06/24/80, and 11/07/80 | 03/18/81, 45 FR 17192 | (c)(12) A plan to attain and maintain the National Ambient Air Quality Standard for lead. A letter further explaining the state procedures for review of new major sources of lead emissions.
A revision to the quality monitoring network |  | Submitted 03/21/79 | 10/08/80, 45 FR 66789, corrected by 03/16/81, 46 FR 16897 | (c)(13) meets the requirements of 40 CFR part 58
Narrative submittal “Implementation Plan for the Protection of Visibility in the State of Vermont” and “Appendices” |  | Submitted 04/15/86 | 07/17/87, 52 FR 26973 | (c)(19) Describing procedures, notifications, and technical evaluations to fulfill the visibility protection requirements of 40 CFR part 51, subpart P.
State Implementation Plan narrative |  | Submitted 12/07/90, and 01/10/91 | 03/05/91, 56 FR 9175 | (c)(20) State of Vermont Air Quality Implementation Plan dated November 1990.
State Implementation Plan narrative |  | Submitted 08/09/93 | 01/10/95, 60 FR 2524 | (c)(21) State of Vermont Air Quality Implementation Plan dated February, 1993. To meet the emission statement requirement of the CAAA of 1990.
Revisions to the State Implementation Plan |  | Submitted 02/03/93, 08/09/93, and 08/10/94 | 04/22/98, 63 FR 19825 | (c)(25) State of the State Vermont: Air Quality Implementation Plan dated August 1993.
Revisions to the State Implementation Plan |  | Submitted 08/03/98 | 07/10/00, 65 FR 42290 | (c)(26) letter from VT Air Pollution Control Division dated July 28, 1998 stating a negative declaration for the aerospace coating operations CTG category.

[FR Doc. 06-2774 Filed 3-21-06; 8:45 am]

BILLING CODE 6560-50-P